FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 23, 2007.

A. Federal Reserve Bank of St. Louis (Glenda Wilson, Community Affairs Officer) 411 Locust Street, St. Louis, Missouri 63166-2034:

1. Alexander Peyton Golden IV, Fort Smith, Arkansas; to acquire voting shares of ACME Holding Company, Inc. Employee Stock Ownership Plan, and thereby indirectly acquire voting shares of Acme Holding Company, Inc., and Allied Bank, all of Mulberry, Arkansas.

B. Federal Reserve Bank of Kansas City (Todd Offenbacker, Assistant Vice President) 925 Grand Avenue, Kansas City, Missouri 64198-0001:

1. Emmalie Cowherd; Benjamin Polen; Robert Cowherd; Andrew Cowherd; Jonathan Cowherd, all of Carrollton, Missouri; and Robert Schwandt, Red Lodge, Montana; to retain voting shares of Carroll County Bancshares, Inc., and thereby indirectly retain voting shares of Carroll County Trust Company, both of Carrollton, Missouri, as the Emmalie Gessner Cowherd Family group. Ms. Cowherd proposes to control shares held in her own name, through the Emmalie Gessner Cowherd Revocable Living Trust and through the Clifton R. Cowherd Estate. Messrs. Benjamin Polen, Robert Cowherd, Robert Schwandt, Andrew Cowherd and Jonathan Cowherd, Carrollton will control shares held in their own names. Both Andrew Cowherd and Jonathan Cowherd will also hold shares through the C.R. Cowherd Trust TUWFBO, Kansas City, Missouri.

Board of Governors of the Federal Reserve System, October 3, 2007.
Robert deV. Frierson,
Deputy Secretary of the Board.

[FR Doc. E7-19802 Filed 10-5-07; 8:45 am]

BILLING CODE 6210-01-S